DEPARTMENT OF JUSTICE

Office of the Attorney General

28 CFR Part 0

[AG Order No. 3229-2010]

Office of Tribal Justice

AGENCY: Department of Justice.

ACTION: Final rule.

SUMMARY: This rule will amend part 0 of title 28 of the Code of Federal Regulations to reflect the establishment of the Office of Tribal Justice as a distinct component of the Department of Justice. The Office of Tribal Justice was created by the Attorney General to provide a channel for Tribes to communicate their concerns to the Department, to help coordinate policy on Indian affairs both within the Department and with other Federal agencies, and to ensure that the Department and its components work with Tribes on a government-to-government basis. This rule, which sets forth the Office's organization, mission and functions, amends the Code of Federal Regulations in order to reflect accurately the Department's internal management structure.

DATES: Effective Date: November 17, 2010.

FOR FURTHER INFORMATION CONTACT: Tracy Toulou, Director, Office of Tribal Justice, U.S. Department of Justice, RFK Main Justice Building, Room 2318, 950 Pennsylvania Avenue, NW., Washington, DC 20530. Telephone: (202) 514-8812.

SUPPLEMENTARY INFORMATION:

Background

In 1995 the Attorney General established the Office of Tribal Justice (OTJ) to provide a principal point of contact within the Department of Justice to listen to the concerns of Indian tribes and other parties interested in Indian affairs and to communicate the Department's policies to the Tribes and the public; to promote internal uniformity of Department of Justice policies and litigation positions relating to Indian country; and to coordinate with other Federal agencies and with State and local governments on their initiatives in Indian country. On November 5, 2009, the President directed all Federal agencies to develop a consultation and coordination policy that ensures effective communication with Tribes. The Director of OTJ, in consultation with Tribes and with other Department components, developed the Department's comprehensive plan in response to the President's directive, and is designated as the Department official responsible for following through on the plan and reporting requirements associated with the President's directive. The Director of OTJ also is the Department official responsible for certifying to the Office of Management and Budget that the requirements of Executive Order 13175, Consultation and Coordination with Indian Tribal Governments, have been met with regard to any regulation or legislation proposed by the Department.

On July 29, 2010, President Obama signed into law the Tribal Law and Order Act of 2010, Public Law 111-211. Section 214 of the Tribal Law and Order Act amends title I of the Indian Tribal Justice Technical and Legal Assistance Act of 2000, to provide that “[n]ot later than 90 days after the date of enactment of the Tribal Law and Order Act of 2010, the Attorney General shall establish the Office of Tribal Justice as a component of the Department.” This rule implements fully that statutory directive.

Administrative Procedure Act 5 U.S.C. 553

This rule is a rule of agency organization and procedure, and relates to the internal management of the Department of Justice. It is therefore exempt from the requirements of notice and comment and a delayed effective date. 5 U.S.C. 553(b), (d).

Regulatory Flexibility Act

The Attorney General, in accordance with the Regulatory Flexibility Act (5 U.S.C. 605(b)), has reviewed this rule and by approving it certifies that this rule will not have a significant economic impact on a substantial number of small entities because it pertains to personnel and administrative matters affecting the Department. Further, a Regulatory Flexibility Analysis was not required to be prepared for this final rule since the Department was not required to publish a general notice of proposed rulemaking for this matter.

Executive Order 12866

This action has been drafted and reviewed in accordance with Executive Order 12866, Regulatory Planning and Review, § 1(b), Principles of Regulation. This rule is limited to agency organization, management, and personnel as described by Executive Order 12866 § 3(d)(3) and, therefore, is not a “regulation” or “rule” as defined by that Executive Order. Accordingly, this action has not been reviewed by the Office of Management and Budget.

Federalism

This rule will not have substantial direct effects on the States, on the relationship between the national government and the States, or on the distribution of power and responsibilities among the various levels of government. Therefore, in accordance with Executive Order 12612, it is determined that this rule does not have sufficient federalism implications to warrant the preparation of a Federalism Assessment.

Executive Order 13175—Tribal Consultation

Congress actively sought the input of Indian Tribes and Tribal organizations in developing the Tribal Law and Order Act of 2010, Public Law 111-211. As a result of that Congressional consultation, the Act includes a requirement that the Office of Tribal Justice be established as a component of the Department of Justice. This action merely amends title 28 of the Code of Federal Regulations to reflect the establishment of the Office of Tribal Justice as a Department component consistent with Tribal input to Congress. Therefore, no consultation with Tribes is required under Executive Order 13175.

Executive Order 12988—Civil Justice Reform

This rule meets the applicable standards set forth in sections 3(a) and 3(b)(2) of Executive Order 12988.

Unfunded Mandates Reform Act of 1955

This rule will not result in the expenditure by State, local and Tribal governments, in the aggregate, or by the private sector of $100,000,000 or more in any one year, and it does not create requirements that might significantly or uniquely affect small governments. Therefore, no actions were deemed necessary under the provisions of the Unfunded Mandates Reform Act of 1995.

Congressional Review Act

This action pertains to agency management, personnel, and organization and does not substantially affect the rights or obligations of non-agency parties and, accordingly, is not a “rule” as that term is used by the Congressional Review Act (Subtitle E of the Small Business Regulatory Enforcement Fairness Act of 1996 (SBREFA)). Therefore, the reporting requirement of 5 U.S.C. 801 does not apply.

Plain Language Instructions

We try to write clearly. Suggestions about how to improve the clarity of this rule may be submitted in writing to Tracy Toulou, Director, Office of Tribal Justice.

List of Subjects in 28 CFR Part 0

Authority delegation (Government agencies), Government employees, Organization and functions (Government agencies), Privacy, Reporting and recordkeeping requirements, Whistleblowing.

Accordingly, by virtue of the authority vested in me as Attorney General, including 5 U.S.C. 301 and 28 U.S.C. 509, 510, part 0 of title 28 of the Code of Federal Regulations is amended as follows:

PART 0—ORGANIZATION OF THE DEPARTMENT OF JUSTICE

1. The authority citation for part 0 continues to read as follows:

Authority: 5 U.S.C. 301; 28 U.S.C. 509, 510, 515-519.

2. Revise § 0.1 by adding at the end of the list under “Offices” the title “Office of Tribal Justice”.

Subpart W-1—[Redesignated as Subpart W-2]

3. Redesignate subpart W-1 as subpart W-2.

4. Add a new subpart W-1 to read as follows:

Subpart W-1—Office of Tribal Justice

§ 0.134 Office of Tribal Justice.

(a) Organization. The Office of Tribal Justice is headed by a Director appointed by the Attorney General. The Director shall be responsible to, and report directly to, the Deputy Attorney General and the Associate Attorney General and shall be a member of the Senior Executive Service.

(b) Mission. The mission of the Office of Tribal Justice shall be to provide a principal point of contact within the Department of Justice to listen to the concerns of Indian Tribes and other parties interested in Indian affairs and to communicate the Department's policies to the Tribes and the public; to promote internal uniformity of Department of Justice policies and litigation positions relating to Indian country; and to coordinate with other Federal agencies and with State and local governments on their initiatives in Indian country.

(c) Function. Subject to the general supervision and direction of the Deputy Attorney General and the Associate Attorney General, the Office of Tribal Justice shall:

(1) Serve as the program and legal policy advisor to the Attorney General with respect to the treaty and trust relationship between the United States and Indian Tribes;

(2) Serve as the Department's initial and ongoing point of contact, and as the Department's principal liaison, for Federally recognized Tribal governments and Tribal organizations;

(3) Coordinate the Department's activities, policies, and positions relating to Indian Tribes, including the treaty and trust relationship between the United States and Indian Tribes;

(4) Ensure that the Department and its components work with Indian Tribes on a government-to-government basis;

(5) Collaborate with Federal and other government agencies to promote consistent, informed government-wide policies, operations, and initiatives related to Indian Tribes;

(6) Serve as a clearinghouse for coordination among the various components of the Department on Federal Indian law issues, and with other Federal agencies on the development of policy or Federal litigation positions involving Indians and Indian Tribes;

(7) Coordinate with each component of the Department to ensure that each component of the Department has an accountable process to ensure meaningful and timely consultation with Tribal leaders in the development of regulatory policies and other actions that affect the trust responsibility of the United States to Indian Tribes, any Tribal treaty provision, the status of Indian Tribes as sovereign governments, or any other Tribal interest.

(8) Ensure that the consultation process of each component of the Department is consistent with Executive Order 13175 and with the Department's consultation policy;

(9) Serve, through its Director, as the official responsible for implementing the Department's Tribal consultation policy and for certifying compliance with Executive Order 13175 to the Office of Management and Budget; and

(10) Perform such other duties and assignments as deemed necessary from time to time by the Attorney General, the Deputy Attorney General, or the Associate Attorney General.

Dated: November 10, 2010.
Eric H. Holder, Jr.,
Attorney General.

[FR Doc. 2010-28947 Filed 11-16-10; 8:45 am]

BILLING CODE 4410-07-P